DEPARTMENT OF ENERGY

Federal Energy Regulatory Commission

[Project No. 4784-106]

Topsham Hydro Partners Limited Partnership (L.P.); Notice of Intent To Prepare an Environmental Assessment

On August 31, 2020, Topsham Hydro Partners Limited Partnership (L.P.) (Topsham Hydro) filed an application for a new license for the 12.3-megawatt Pejepscot Hydroelectric Project (Pejepscot Project; FERC No. 4784) on the Androscoggin River in Sagadahoc, Cumberland, and Androscoggin Counties in the village of Pejepscot and the town of Topsham, Maine. The project does not affect federal lands.

In accordance with the Commission's regulations, on April 19, 2021, Commission staff issued a notice that the project was ready for environmental analysis (REA Notice). Subsequently, Topsham Hydro filed Settlement Agreements for Modified Prescriptions for Fishways executed by and between the licensee and the U.S. Department of Commerce's National Marine Fisheries Service and the U.S. Department of Interior's U.S. Fish and Wildlife Service on February 18, 2022, and February 24, 2022, respectively. Comments on the settlement agreements were due on March 26 and 30, 2022. Comments were filed on the settlement agreements.

Based on the information in the record, including our review of the settlement agreements and comments on the settlement agreements, staff does not anticipate that licensing the project would constitute a major federal action significantly affecting the quality of the human environment. Therefore, staff intends to prepare a draft and final Environmental Assessment (EA) on the application to relicense the Pejepscot Project.

The EA will be issued and circulated for review by all interested parties. All comments filed on the EA will be analyzed by staff and considered in the Commission's final licensing decision.

The application will be processed according to the following schedule. Revisions to the schedule may be made as appropriate.

Milestone | Target date
Commission issues draft EA | June 2022.
Comments on draft EA due | July 2022.
Commission issues final EA | November 2022 ¹
¹ The Council on Environmental Quality's (CEQ) regulations under 40 CFR 1501.10(b)(1) require that EAs be completed within 1 year of the federal action agency's decision to prepare an EA. This notice establishes the Commission's intent to prepare a draft and final EA for the Pejepscot Hydroelectric Project. Therefore, in accordance with CEQ's regulations, the final EA must be issued within 1 year of the issuance date of this notice.

Any questions regarding this notice may be directed to Ryan Hansen at (202) 502-8074 or at ryan.hansen@ferc.gov.

Dated: May 10, 2022.
Kimberly D. Bose,
Secretary.

[FR Doc. 2022-10470 Filed 5-13-22; 8:45 am]

BILLING CODE 6717-01-P